DEPARTMENT OF THE INTERIOR

Bureau of Land Management

[SDM 79849]

Notice of Proposed Withdrawal Extension and Opportunity for Public Meeting; South Dakota

AGENCY: Bureau of Land Management, Interior.

ACTION: Notice.

SUMMARY: The United States Department of Agriculture (USDA), Forest Service, has filed an application with the Department of the Interior, Bureau of Land Management, to extend the duration of Public Land Order (PLO) No. 7174 for an additional 20-year term. PLO No. 7174 withdrew approximately 35 acres of National Forest System lands in the Black Hills National Forest from location and entry under the United States mining laws to protect recreational values and the investment of Federal funds at the Pactola Visitor Information Center, Pactola Marina North, and Pactola Marina South. The withdrawal created by PLO No. 7174 will expire on November 27, 2015, unless extended. This notice also gives the public an opportunity to comment on the proposed withdrawal extension and to request a public meeting.

DATES: Comments and requests for a public meeting must be received by August 20, 2012.

ADDRESSES: Comments and meeting requests should be sent to the Regional Forester, USDA Forest Service, Rocky Mountain Region, 740 Simms Street, Golden, Colorado 80401, or the Montana State Director, Bureau of Land Management, 5001 Southgate Drive, Billings, Montana 59101-4669.

FOR FURTHER INFORMATION CONTACT: Valerie Hunt, USDA Forest Service, Rocky Mountain Region, 740 Simms Street, Golden, Colorado 80401, 303-275-5071, vbhunt@fs.fed.us, or Sandra Ward, Bureau of Land Management, 5001 Southgate Drive, Billings, Montana 59101-4669, 406-896-5052, sward@blm.gov. Persons who use a telecommunications device for the deaf (TDD) may call the Federal Information Relay Service (FIRS) at 1-800-877-8339 to contact either of the above individuals during normal business hours. The FIRS is available 24 hours a day, 7 days a week, to leave a message or question with either of the above individuals. You will receive a reply during normal business hours.

SUPPLEMENTARY INFORMATION: The USDA Forest Service filed an application requesting that the Secretary of the Interior extend PLO No. 7174 (60 FR 58521 (1995)), which withdrew approximately 35 acres of National Forest System lands located in the Black Hills National Forest from location and entry under the United States mining laws, but not from leasing under the mineral leasing laws, for an additional 20-year term, subject to valid existing rights. PLO No. 7174 is incorporated herein by reference.

The purpose of the proposed withdrawal extension is to continue to protect recreational values and the investment of Federal funds at the Pactola Visitor Information Center, Pactola Marina North, and Pactola Marina South.

The use of a right-of-way, interagency agreement, or cooperative agreement would not provide adequate protection.

There are no suitable alternative sites available. There are no other Federal lands in the area containing these recreational opportunities and improvements.

No water rights will be needed to fulfill the purpose of the requested withdrawal extension.

On or before August 20, 2012, all persons who wish to submit comments, suggestions, or objections in connection with the proposed withdrawal extension may present their views in writing to the Regional Forester, USDA Forest Service, Rocky Mountain Region, 740 Simms Street, Golden, Colorado 80401.

Comments, including names and street addresses of respondents, will be available for public review at the USDA Forest Service, Forest Supervisor's Office, Black Hills National Forest, 1019 North 5th Street, Custer, South Dakota 57730, and the Bureau of Land Management, Montana State Office, 5001 Southgate Drive, Billings, Montana, 59101-4669 during regular business hours.

Individual respondents may request confidentiality. Before including your address, phone number, email address, or other personal identifying information in your comments, be advised that your entire comment—including your personal identifying information—may be made publicly available at any time. While you can ask us in your comment to withhold from public review your personal identifying information, we cannot guarantee that we will be able to do so.

Notice is hereby given that an opportunity for a public meeting is afforded in connection with the proposed withdrawal extension. All interested persons who desire a public meeting for the purpose of being heard on the proposed withdrawal must submit a written request to the Regional Forester, USDA Forest Service, Rocky Mountain Region, 740 Simms Street, Golden, Colorado 80401 by August 20, 2012. Upon determination by the authorized officer that a public meeting will be held, a notice of the time and place will be published in the Federal Register and at least one local newspaper not less than 30 days before the scheduled date of the meeting.

This application will be processed in accordance with the applicable regulations set forth in 43 CFR 2310.4.

Authority: 43 CFR 2310.3-1.

Gary P. Smith,
Acting Chief, Branch of Land Resources.

[FR Doc. 2012-12234 Filed 5-18-12; 8:45 am]

BILLING CODE 3410-11-P